DEPARTMENT OF COMMERCE

International Trade Administration

[C-475-819 & C-489-806]

Certain Pasta From Italy and Turkey; Notice of Extension of Time Limit for Preliminary Results of Countervailing Duty Administrative Reviews

AGENCY: Import Administration, International Trade Administration, Department of Commerce.

ACTION: Notice of extension of time limit for preliminary results of administrative reviews.

SUMMARY: The Department of Commerce is extending the time limit for the preliminary results of the fourth administrative reviews of the countervailing duty orders on Certain Pasta from Italy and Turkey. The period of review for both cases is January 1, 1999, through December 31, 1999.

EFFECTIVE DATE: April 13, 2001.

FOR FURTHER INFORMATION CONTACT: Craig Matney (Italy) or Annika O'Hara (Turkey), Office 1, Import Administration, International Trade Administration, U.S. Department of Commerce, 14th Street and Constitution Avenue, N.W., Washington D.C. 20230; telephone (202) 482-1778 or 482-3798, respectively.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce's (the Department's) regulations refer to 19 CFR Part 351 (2000).

Extension of Time Limit for Preliminary Results

The Department initiated these administrative reviews on August 25, 2000 (65 FR 53980 (September 6, 2000)). Under section 751(a)(3)(A) of the Act, the Department is required to make a preliminary determination within 245 days after the last day of the anniversary month of an order for which a review is requested. However, if it is not practicable to do so, section 751(a)(3)(A) allows the Department to extend this deadline by a maximum of 120 days. Due to the large number of responding companies in these reviews and the administrative constraints resulting from other ongoing administrative reviews and investigations assigned to the office handling this case, it is not practicable to issue the preliminary results of these reviews within the time limit currently mandated by section 751(a)(3)(A) (i.e., April 2, 2001). Therefore, in accordance with section 751(a)(3)(A) and 19 CFR 351.213(h)(2), the Department is extending the time limit for completion of the preliminary results of these reviews by 120 days (i.e., until July 31, 2001).

Dated: March 28, 2001.
Richard W. Moreland,
Deputy Assistant Secretary for AD/CVD Enforcement.

[FR Doc. 01-8168 Filed 4-2-01; 8:45 am]

BILLING CODE 3510-DS-P